DEPARTMENT OF THE INTERIOR

Bureau of Land Management

[MT-924-1430-HN-003E; MTM 84984, MTM 86124]

Public Notice—Jurisdiction Transfer as Required by the Crow Boundary Settlement Act of 1994; Montana

AGENCY: Bureau of Land Management, Interior.

ACTION: Notice.

SUMMARY: This document provides notification to the public and state and local governmental officials of the transfer of exclusive jurisdiction and administration of the surface estate of 12,465.32 acres of public lands from the Bureau of Land Management to the United States of America, Bureau of Indian Affairs in trust for the Crow Indian Tribe and shall be recognized as part of the Crow Indian Reservation.

EFFECTIVE DATES: December 2, 1999, December 8, 1999, December 16, 1999, January 12, 2000, February 24, 2000, and March 27, 2000.

FOR FURTHER INFORMATION CONTACT: Russell Sorensen, BLM Dillon Field Office, 1005 Selway Drive, Dillon, Montana 59725-9431, 406-683-8036. By virtue of the authority vested in the Secretary of the Interior pursuant to Section 5(d)(G) of the Crow Boundary Settlement Act of November 2, 1994, P.L. 103-444, it is ordered as follows:

1. Subject to valid existing rights, jurisdiction of the surface estate for the following described lands was transferred to the Bureau of Indian Affairs in trust for the Crow Indian Tribe on the dates listed below:

(a) December 2, 1999:

Principal Meridian

T. 3 S., R. 29 E.,

Sec. 10, all.

(b) December 8, 1999:

T. 6 S., R. 33 E.,

Sec. 12, NE¼.

T. 1 S., R. 35 E.,

Sec. 16, all.

T. 3 S., R. 35 E.,

Sec. 16, all.

T. 2 S., R. 36 E.,

Sec. 16, all.

(c) December 16, 1999:

T. 3 S., R. 28 E.,

Sec. 36, NE¼SE¼.

(d) January 12, 2000:

T. 3 S., R. 33 E.,

Sec. 16, S½S½.

T. 3 S., R. 34 E.,

Sec. 36, lot 4, NW¼SW¼.

T. 4 S., R. 37 E.,

Sec. 21, all.

T. 4 S., R. 38 E.,

Sec. 16: NE¼NW¼, S½NW¼, N½SW¼, and SW¼SW¼.

T. 5 S., R. 36 E.,

Sec. 2, SE¼;

Sec. 11, E½.

(e) February 24, 2000:

T. 3 S., R. 29 E.,

Sec. 11, all.

(f) March 27, 2000:

T. 1 S., R. 35 E.,

Sec. 36, all.

T. 1 S., R. 36 E.,

Sec. 16, N½NW¼, SE¼NW¼, NE¼, and N½SE¼;

Sec. 36, all.

T. 2 S., R. 35 E.,

Sec. 16, all.

T. 2 S., R. 36 E.,

Sec. 36, all.

T. 3 S., R. 35 E.,

Sec. 36, all.

T. 3 S., R 36 E.,

Sec. 16, all.

T. 4 S., R. 37 E.,

Sec. 1, S½N½, and S½.

T. 5 S., R. 26 E.,

Sec. 16, SE¼NE¼, and SE¼.

T. 5 S., R. 30 E.,

Sec. 3, lots 1 to 4, inclusive, S½N½, and S½.

T. 5 S., R. 33 E.,

Sec. 36, all.

T. 6 S., R. 30 E.,

Sec. 1, lots 1 to 7, inclusive, SW¼NE¼, S½NW¼, SW¼, and W½SE¼;

Sec. 2, lots 1 to 4, inclusive, S½N½, and S½.

The areas described aggregate 12,465.32 acres in Big Horn and Yellowstone Counties, Montana.

2. The transfer of the above described surface estate for such lands and all activities conducted thereon vests custody and accountability unto the United States of America, on behalf of the Bureau of Indian Affairs, in trust for the Crow Indian Tribe.

Dated: September 20, 2000.
Thomas P. Lonnie,
Deputy State Director, Division of Resources.

[FR Doc. 00-25301 Filed 10-2-00; 8:45 am]

BILLING CODE 4310-$$-P